FEDERAL COMMUNICATIONS COMMISSION

Notice of Public Information Collection(s) Being Reviewed by the Federal Communications Commission

July 16, 2003.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 4, 2003. If you anticipate that you will be submitting comments, but find it difficult to do so within the period of time allowed by this notice, you should advise the contact listed below as soon as possible.

ADDRESSES: Direct all comments regarding this Paperwork Reduction Act (PRA) submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0936.

Title: Section 95.1215, Disclosure Policies and Section 95.1217, Labeling Requirements.

Form No: N/A.

Type of Review: Extension of a currently approved collection.

Respondents: Business or other for-profit, not-for-profit institutions.

Number of Respondents: 20.

Estimated Time Per Response: 1 hour.

Frequency of Response: On occasion reporting requirement.

Total Annual Burden: 20 hours.

Total Annual Cost: N/A.

Needs and Uses: The information collection requires manufacturers of transmitters for the Medical Implant Communications Service (MICS) to include with each transmitting device a statement regarding harmful interference and to label the device in a conspicuous location on the device. The requirements will allow use of potential life-saving medical technology without causing interference to other users of the 402-405 MHz band. This information collection has not changed and is being submitted to the OMB in order to obtain the full three year clearance.

OMB Control No.: 3060-XXXX.

Title: Request for Technical Support.

Form No: N/A.

Type of Review: New collection.

Respondents: Individuals or households, business or other for-profit, not-for-profit institutions, and state, local or tribal government.

Number of Respondents: 31,500.

Estimated Time Per Response: 8 minutes (.13 hours).

Frequency of Response: On occasion reporting requirement and recordkeeping requirement.

Total Annual Burden: 4,200 hours.

Total Annual Cost: $336,000.

Needs and Uses: This electronic form will be used by the public to request technical support using Wireless Telecommunications Bureau (WTB) computer applications. This includes issues, problems, and questions about using software used for licensing, applying for licenses, participate in auctions for spectrum, and maintaining license information. Password reset requests for access to software used for these purposes is also a fundamental part of this package. This form will be submitted in lieu of free-form email requests for support and will facilitate expedited processing of these requests by Commission staff, resulting in a faster turn-around for responses and corrected answers.

Federal Communications Commission.
Marlene H. Dortch,
Secretary.

[FR Doc. 03-19842 Filed 8-4-03; 8:45 am]

BILLING CODE 6712-01-P